DEPARTMENT OF COMMERCE

International Trade Administration

President's Advisory Council on Doing Business in Africa

AGENCY: International Trade Administration, U.S. Department of Commerce.

ACTION: Notice of an open meeting of the President's Advisory Council on Doing Business in Africa (PAC-DBIA or Council).

SUMMARY: The President's Advisory Council on Doing Business in Africa will hold the second meeting of the 2019-2021 term to deliberate and consider adopting an analysis report of members' keys to success approaching African markets, competing for business opportunities, and operating their businesses on the ground. The PAC-DBIA may also deliberate on recommendations on priorities and next steps for the current Council term. The final agenda for the meeting will be posted at least one week in advance of the meeting on the Council's website at http://trade.gov/pac-dbia.

DATES: February 26, 2020, 11 a.m.-12:30 p.m.

ADDRESSES: The President's Advisory Council on Doing Business in Africa meeting will be broadcast via live webcast on the internet at http://whitehouse.gov/live.

FOR FURTHER INFORMATION CONTACT: Giancarlo Cavallo or Ashley Bubna, Designated Federal Officers, President's Advisory Council on Doing Business in Africa, Department of Commerce, 1401 Constitution Ave. NW, Room 22004, Washington, DC 20230, telephone: 202-482-2091, email: dbia@trade.gov, Giancarlo.Cavallo@trade.gov, Ashley.Bubna@trade.gov.

SUPPLEMENTARY INFORMATION:

Background: The Council was established on November 4, 2014, to advise the President, through the Secretary of Commerce, on strengthening commercial engagement between the United States and Africa. The Council's charter was renewed for a third, two-year term in September 2019. The Council was established in accordance with the provisions of the Federal Advisory Committee Act, as amended, 5 U.S.C. App.

Public Submissions: The public is invited to submit written statements to the Council. Statements must be received by 5:00 p.m. February 19, 2020 by either of the following methods:

a. Electronic Submissions: Submit statements electronically to Giancarlo Cavallo and Ashley Bubna, Designated Federal Officers, President's Advisory Council on Doing Business in Africa, via email: dbia@trade.gov.

b. Paper Submissions: Send paper statements to Giancarlo Cavallo and Ashley Bubna, Designated Federal Officers, President's Advisory Council on Doing Business in Africa, Department of Commerce, 1401 Constitution Ave. NW, Room 22004, Washington, DC 20230.

Statements will be provided to the members in advance of the meeting for consideration and also will be posted on the Council website (http://trade.gov/pac-dbia). Any business proprietary information should be clearly designated as such. All statements received, including attachments and other supporting materials, are part of the public record and subject to public disclosure.

Meeting minutes: Copies of the Council's meeting minutes will be available within ninety (90) days of the meeting on the Council's website at http://trade.gov/pac-dbia.

Frederique Stewart,
Director, Office of Africa.

[FR Doc. 2020-02546 Filed 2-7-20; 8:45 am]

BILLING CODE 3510-DR-P